DEPARTMENT OF ENERGY

Federal Energy Regulatory Commission

[Project No. P-10828-007]

Occoquan River Project; Notice of Application Accepted for Filing, Soliciting Motions To Intervene and Protests, Ready for Environmental Analysis, and Soliciting Comments, Recommendations, and Terms and Conditions

March 24, 2009.

Take notice that the following hydroelectric application has been filed with the Commission and is available for public inspection:

a. Type of Application: Surrender of License.

b. Project No.: 10828-007.

c. Date Filed: January 15, 2009.

d. Applicant: Fairfax Water.

e. Name of Project: Occoquan River Project.

f. Location: Occoquan River in Prince William and Fairfax Counties, Virginia.

g. Filed Pursuant to: Federal Power Act, 16 U.S.C. 791a-825r.

h. Contact: Mr. Greg Prelewicz, Chief, Source Water Protection and Planning, Fairfax Water, 8560 Arlington Boulevard, Fairfax, VA 22032, (703) 289-6318, gprelewicz@fairfaxwater.org.

i. FERC Contact: Mr. Jeremy Jessup, (202) 502-6779, Jeremy.Jessup@ferc.gov.

j. Deadline for filing motions to intervene and protests, comments, recommendations, and preliminary terms and conditions, is 60 days from the issuance of this notice; reply comments are due 105 days from the issuance date of this notice. All documents (original and eight copies) should be filed with: Secretary, Federal Energy Regulatory Commission, 888 First Street, NE., Washington, DC 20426.

k. Description of Request: The applicant proposes to surrender the license for the Occoquan River Project. In addition, the applicant proposes to decommission and keep both the upper and lower dams for continued use in water supply storage. Further, the applicant proposes to decommission the powerhouse, generating units, and penstock at the upper dam. The existing powerhouse intake structure and the draft tube pit will be backfilled with concrete. The applicant proposes to construct a new, gated, reinforced concrete tower within the footprint of the demolished portion of the powerhouse at the upper dam. The applicant also proposes to remove all generating units located in a pump station near the lower dam. The penstock for the lower dam is to remain in place. The applicant consulted with federal, state, and local agencies, and other parties with potential interest, in the license surrender.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST”, “MOTION TO INTERVENE”, “COMMENTS,” “REPLY COMMENTS,” “RECOMMENDATIONS,” or “TERMS AND CONDITIONS”; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

p. As provided for in 18 CFR 4.34(b)(5)(i), a license applicant must file, no later than 60 days following the date of issuance of this notice of acceptance and ready for environmental analysis: (1) A copy of the water quality certification; (2) a copy of the request for certification, including proof of the date on which the certifying agency received the request; or (3) evidence of waiver of water quality certification.

q. e-Filing: Comments, motions to intervene, protests, or terms and conditions may be filed electronically via the Internet in lieu of paper. See, 18 CFR 385.2001(a)(1)(iii) and the instructions on the Commission's Web site at http://www.ferc.gov under the “e Filing” link.

Kimberly D. Bose,
Secretary.

[FR Doc. E9-7083 Filed 3-30-09; 8:45 am]

BILLING CODE